DEPARTMENT OF ENERGY

Federal Energy Regulatory Commission

Combined Notice of Filings #1

Take notice that the Commission received the following electric corporate filings:

Docket Numbers: EC20-85-000.

Applicants: Entergy Texas, Inc.

Description: Application for Authorization Under Section 203 of the Federal Power Act of Entergy Texas, Inc.

Filed Date: 7/30/20.

Accession Number: 20200730-5263.

Comments Due: 5 p.m. ET 9/28/20.

Docket Numbers: EC20-88-000.

Applicants: Tonopah Solar Energy, LLC.

Description: Application for Authorization Under Section 203 of the Federal Power Act, et al. of Tonopah Solar Energy, LLC.

Filed Date: 8/12/20.

Accession Number: 20200812-5188.

Comments Due: 5 p.m. ET 9/2/20.

Docket Numbers: EC20-89-000.

Applicants: Baldwin Wind, LLC, Baldwin Wind Energy, LLC, Day County Wind, LLC, Day County Wind I, LLC, Gray County Wind Energy, LLC, Gray County Wind, LLC, High Majestic Wind Energy Center, LLC, High Majestic Wind I, LLC, Minco Wind, LLC, Minco Wind I, LLC, FPL Energy Cowboy Wind, LLC, Weatherford Wind, LLC.

Description: Application for Authorization Under Section 203 of the Federal Power Act, et al. of Baldwin Wind, LLC, et al.

Filed Date: 8/12/20.

Accession Number: 20200812-5189.

Comments Due: 5 p.m. ET 9/2/20.

Take notice that the Commission received the following electric rate filings:

Docket Numbers: ER19-467-005.

Applicants: New York Independent System Operator, Inc.

Description: Compliance filing: Compliance to set effective date under ER19-467-000, et al, related to ESR model to be effective 8/26/2020.

Filed Date: 8/12/20.

Accession Number: 20200812-5152.

Comments Due: 5 p.m. ET 9/2/20.

Docket Numbers: ER19-2745-002.

Applicants: New Creek Wind LLC.

Description: Compliance filing: New Creek Wind, LLC Compliance Filing Under Docket No. ER19-2745 to be effective 11/4/2019.

Filed Date: 8/13/20.

Accession Number: 20200813-5071.

Comments Due: 5 p.m. ET 9/3/20.

Docket Numbers: ER20-1696-001.

Applicants: New York Independent System Operator, Inc.

Description: Compliance filing: Compliance to set effective date for ESR provisions to be effective 8/26/2020.

Filed Date: 8/12/20.

Accession Number: 20200812-5150.

Comments Due: 5 p.m. ET 9/2/20.

Docket Numbers: ER20-1847-001.

Applicants: PJM Interconnection, L.L.C.

Description: Compliance filing: Compliance Filing per the Commission's 7/19/2020 order re: Docket No. ER20-1847 to be effective 4/23/2020.

Filed Date: 8/13/20.

Accession Number: 20200813-5078.

Comments Due: 5 p.m. ET 9/3/20.

Docket Numbers: ER20-1851-001.

Applicants: Whitetail Solar 3, LLC.

Description: Tariff Amendment: Deficiency Filing for Whitetail Solar 3 Reactive Rate Schedule to be effective 7/18/2020.

Filed Date: 8/12/20.

Accession Number: 20200812-5153.

Comments Due: 5 p.m. ET 9/2/20.

Docket Numbers: ER20-1863-000.

Applicants: Ingenco Wholesale Power, L.L.C.

Description: Report Filing: Deficiency Filing #2 for Ingenco Reactive Rate Schedule to be effective N/A.

Filed Date: 8/10/20.

Accession Number: 20200810-5168.

Comments Due: 5 p.m. ET 8/31/20.

Docket Numbers: ER20-2113-001.

Applicants: New York Independent System Operator, Inc.

Description: Compliance filing: Compliance filing to set effective date for ESR provisions to be effective 8/26/2020.

Filed Date: 8/12/20.

Accession Number: 20200812-5155.

Comments Due: 5 p.m. ET 9/2/20.

Docket Numbers: ER20-2164-001.

Applicants: H.A. Wagner LLC.

Description: Tariff Amendment: Amendment to Market-Based Rate Tariff Revision Filing to be effective 6/26/2020.

Filed Date: 8/13/20.

Accession Number: 20200813-5082.

Comments Due: 5 p.m. ET 9/3/20.

Docket Numbers: ER20-2165-001.

Applicants: LMBE Project Company LLC.

Description: Tariff Amendment: Amendment to Market-Based Rate Tariff Revision Filing to be effective 6/26/2020.

Filed Date: 8/13/20.

Accession Number: 20200813-5081.

Comments Due: 5 p.m. ET 9/3/20.

Docket Numbers: ER20-2656-000.

Applicants: Midcontinent Independent System Operator, Inc., Republic Transmission, LLC.

Description: § 205(d) Rate Filing: 2020-08-13_Republic Transmission Regulatory Asset Filing to be effective 10/13/2020.

Filed Date: 8/13/20.

Accession Number: 20200813-5023.

Comments Due: 5 p.m. ET 9/3/20.

Docket Numbers: ER20-2657-000.

Applicants: PJM Interconnection, L.L.C.

Description: § 205(d) Rate Filing: Amendment to WMPA, Service Agreement No. 5314; Queue No. AE1-081 to be effective 2/17/2019.

Filed Date: 8/13/20.

Accession Number: 20200813-5037.

Comments Due: 5 p.m. ET 9/3/20.

Docket Numbers: ER20-2658-000.

Applicants: PacifiCorp.

Description: § 205(d) Rate Filing: BPA Kennewick Mobile REDI Communications Agr to be effective 8/30/2020.

Filed Date: 8/13/20.

Accession Number: 20200813-5068.

Comments Due: 5 p.m. ET 9/3/20.

Docket Numbers: ER20-2659-000.

Applicants: Public Service Company of New Mexico.

Description: § 205(d) Rate Filing: PNM-EL Cabo Attachment A-1 to be effective 7/14/2020.

Filed Date: 8/13/20.

Accession Number: 20200813-5085.

Comments Due: 5 p.m. ET 9/3/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 13, 2020.
Nathaniel J. Davis, Sr.,
Deputy Secretary.

[FR Doc. 2020-18138 Filed 8-18-20; 8:45 am]

BILLING CODE 6717-01-P